DEPARTMENT OF THE INTERIOR

National Park Service

Notice of Intent to Repatriate Cultural Items: Rochester Museum & Science Center, Rochester, NY

AGENCY: National Park Service, Interior.

ACTION: Notice.

Notice is here given in accordance with the Native American Graves Protection and Repatriation Act (NAGPRA), 25 U.S.C. 3005, of the intent to repatriate cultural items in the possession of the Rochester Museum & Science Center, Rochester, NY, that meet the definitions of “sacred objects” and objects of “cultural patrimony” under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

Between 1935 and 1941, the Works Progress Administration/Indian Arts Project paid members of the Tonawanda Seneca Nation to create a variety of ethnographic objects. This project was directed by Arthur C. Parker, director, Rochester Museum of Arts & Science (now Rochester Museum & Science Center), with the intent of both giving employment to the Seneca people and building a collection for the museum. In total there are 306 medicine faces described in this Notice.

The following 184 large wooden medicine faces were created under the auspices of that project:

On June 1, 1935, the museum acquired one large wooden medicine face (AE 3163/35.267.5) made by Jesse Cornplanter, Tonawanda Reservation, that measures 10 3/4” x 6 7/8”.

Between May 15 and June 8, 1936, the museum acquired five large wooden medicine faces made by Jesse Cornplanter, Tonawanda Reservation. The first (AE 5123/36.378.1) measures 10 3/4” x 7”. The second (AE 5034/36.378.2) is made of whitewood and measures 10 1/2” x 7”. The third (AE 4858/36.378.3) measures 10 3/8” x 7”. The fourth (AE5126/36.378.4) is made of cucumber wood and measures 10” x 6 1/2”. The fifth (AE 4859/36.378.5) measures 11” x 7”.

Between March 29 and October 13, 1937, the museum acquired seven large wooden medicine faces made by Jesse Cornplanter, Tonawanda Reservation. The first face (AE 5825/37.496.1) is made of basswood. The second face (AE 5801/37.496.2) measures 10” x 6 1/4”. The third face (AE 6110/37.496.3) is made of whitewood. The fourth face (AE 5915/37.496.4) is made of willow. The fifth face (AE 5962/37.496.9) is made of basswood and measures 6 1/2” x 10”. The sixth face (AE 6290/37.496.10) is made of pine and is 9” long. The seventh face (AE 6191/37.496.11) measures 10” x 6 1/2”.

Between February 1 and December 1, 1938, the museum acquired seven large wooden medicine faces made by Jesse Cornplanter, Tonawanda Reservation. The first (AE 6454/38.373.1) is made of basswood and measures 9 1/4” x 6 3/4”. The second (AE 6952/38.373.2) is a whitewood ceremonial face that measures 9 1/8” x 6 1/4”. The third (AE 6567/38.373.3) is made of basswood and measures 10 1/2” x 7 1/2”. The fourth (AE 6453/38.373.4) is made of pine. The fifth (AE 6788/38.373.6) is made of whitewood. The sixth (AE 6636/38.373.7) measures 9” x 6”. The seventh (AE 6785/38.373.10) is made of whitewood.

Between April 1, 1939, and January 1, 1940, the museum acquired six large wooden medicine faces made by Jesse Cornplanter, Tonawanda Reservation. The first (AE 7509/39.375.1) measures 9 5/8” x 6 1/4”. The second (AE 7422/39.375.2) measures 9 1/2” x 6 1/2”. The third (AE 7515/39.375.3) is made of whitewood and measures 9 1/2” x 5 1/2”. The fourth (AE 7705/39.375.4) and fifth (AE 7704/40.465.5) are large wooden faces. The sixth (AE 7698/39.375.5) is made of basswood.

Between January 1 and December 18, 1940, the museum acquired six medicine faces made by Jesse Cornplanter, Tonawanda Reservation. Three are large wooden faces (AE 8278/40.465.2, AE 8277/40.465.3, and AE 7706/40.465.4). Three are large basswood faces (AE 8281/40.465.6, AE 8089/40.465.7, and AE 8273/40.465.8).

On June 1, 1941, the museum acquired one large basswood medicine face (AE 8351/41.255.1) made by Jesse Cornplanter, Tonawanda Reservation.

On July 1, 1940, the museum acquired two large basswood medicine faces (AE 8086/40.464.1 and AE 8088/40.464.17) made by Ira Charles, Tonawanda Reservation.

Between July 18 and August 5, 1935, the museum acquired three large wooden medicine faces made by William Gordon, Tonawanda Reservation. The first face (AE 3227/35.271.8) measures 10 1/4” x 6 1/2”. The second (AE 3230/35.271.11) measures 10 3/4” x 6 3/4”. The third (AE 3408/35.271.13) measures 9 3/8” long.

On May 15, 1936, the museum acquired five medicine faces made by William Gordon, Tonawanda Reservation. The first (AE 4810/36.379.10) is a large wooden face. The second (AE 4811/36.379.12) is made of willow wood. The third (AE 4814/35.271.22) is made of cucumber wood. The fourth (AE 4815/35.271.23) is a large wooden face made of basswood that measures 10 1/4” x 6 3/4”. The fifth (AE 4861/36.379.11) is a wooden face that measures 6 1/2” x 3 1/2”.

In June 1936, the museum acquired eight large wooden medicine faces made by William Gordon, Tonawanda Reservation. The first face is made of whitewood (AE 5121/36.379.1) and measures 11” x 6 1/2”. The second face is made of whitewood (AE 5127/36.379.2) and measures 10 1/2” x 6 1/2”. The third face is made of whitewood (AE 5125/36.379.15) and measures 11” x 6 1/4”. The fourth face is made of whitewood (AE 5044/36.379.19) and measures 10 1/4” x 6 1/4”. The fifth face is made of whitewood (AE 5124/36.379.14). The sixth face (AE 5014/36.379.18) is made of basswood. The seventh face (AE 5128/36.379.17) is made of cucumber wood and measures 10 1/2” x 6 1/2”. The eighth (AE 5035/35.271.24) is a large wooden face.

On December 9, 1936, the museum acquired two large whitewood medicine faces made by William Gordon, Tonawanda Reservation. The first face (AE 5480/36.379.5) measures 11” x 6 1/4”. The second face (AE 5486/36.379.6) measures 9 1/2” x 6”.

On October 1, 1938, the museum acquired one large wooden medicine face (AE 6696/38.374.7) made by William Gordon, Tonawanda Reservation, that measures 8 3/4” x 6 3/4”.

On May 1, 1939, the museum acquired seven large wooden medicine faces made by William Gordon, Tonawanda Reservation. The first face is made of whitewood (AE 7328/39.376.26) and measures 10” x 5 3/4”. The second face is made of whitewood (AE 7329/39.376.25) and measures 9 1/2” x 5 1/2”. The third face is made of whitewood (AE 7330/39.376.23) and measures 10” x 6”. The fourth face is made of whitewood (AE 7333/39.376.22). The fifth face is made of basswood (AE 7331/39.376.27) and measures 10” long. The sixth face is made of basswood (AE 7332/39.376.24) and measures 9 1/2” x 6”. The seventh face is made of basswood (AE 7415/39.376.13).

On October 1, 1939, the museum acquired four medicine faces made by William Gordon, Tonawanda Reservation. The first (AE 7520/38.374.2) is a large basswood face that measures 10” x 6 1/4”. The second (AE 7522/38.374.9) is made of whitewood and measures 10” x 5 1/2”. The third (AE 7511/38.374.8) is a large face made of whitewood. The fourth (AE 7514/39.376.2) is a large wooden face.

On November 1, 1939, the museum acquired five medicine faces made by William Gordon, Tonawanda Reservation. Two are large wooden faces (AE 7554/39.376.3 and AE 7555/39.376.4). Two (AE 7556/39.376.14 and AE 7557/39.376.5) are made of basswood. The fifth (AE 7558/39.376.12) is made of whitewood.

On March 11, 1940, the museum acquired one large basswood medicine face (AE 7997/40.466.12) made by William Gordon, Tonawanda Reservation.

In April 1940, the museum acquired two large wooden medicine faces made by William Gordon, Tonawanda Reservation. The first medicine face (AE 7995/40.466.25) is a made of basswood. The second face (AE 7998/40.466.1) is made of whitewood.

On May 1, 1940, the museum acquired seven large wooden medicine faces made by William Gordon, Tonawanda Reservation. Three (AE 7990/39.376.19, AE 7991/40.466.2, and AE 7993/39.376.16) are made of whitewood. The remaining four (AE 7992/39.376.20, AE 7994/39.376.18, AE 7996/39.376.21, and AE 7999/39.376.17) are made of basswood.

In June 1940, the museum acquired three large wooden faces made by William Gordon, Tonawanda Reservation. Two (AE 8034/40.466.24 and AE 8035/39.376.15) are made of basswood. The third (AE 8255/40.466.23) is made of basswood.

In July 1940, the museum acquired four large basswood faces (AE 8036/40.466.19, AE 8037/40.466.21, AE 8256/40.466.22, and AE 8260/40.466.20) made by William Gordon, Tonawanda Reservation.

In August 1940, the museum acquired three large basswood medicine faces (AE 8059/40.466.4, AE 8258/40.466.5, and AE 8259/40.466.3) made by William Gordon, Tonawanda Reservation.

In November 1940, the museum acquired two large basswood medicine faces (AE 8279/40.466.26 and AE 8280/40.466.27) made by William Gordon, Tonawanda Reservation.

In December 1940, the museum acquired two large medicine faces made by William Gordon, Tonawanda Reservation. One (AE 8270/40.466.6) is made of an unidentified wood. The second (AE 8267/40.466.8) is made of basswood.

Between January 7 and March 3, 1941, the museum acquired four large wooden medicine faces (AE 8272/41.256.1, AE 8274/41.256.5, AE 8275/41.256.2, and AE 8276/41.256.4) made by William Gordon, Tonawanda Reservation.

Between June 1 and July 1, 1941, the museum acquired five large basswood medicine faces (AE 8346/41.256.3, AE 8347/40.483.5, AE 8350/40.466.7, AE 8367/41.256.6, and AE 8368/41.256.7) made by William Gordon, Tonawanda Reservation.

Between February 1 and October 21, 1935, the museum acquired six large wooden medicine faces made by Harrison Ground, Tonawanda Reservation. The first (AE 2684/35.273.29) measures 9 3/4” x 7”. The second (AE 3288/35.273.30) measures 10 1/4” x 6 1/2”. The third (AE 3289/35.273.31) measures 10” x 5 3/4”. The fourth (AE 3290/35.273.32) measures 9” x 6 1/2”. The fifth (AE 4026/35.273.35) and sixth (AE 4211/35.273.43) are described as large.

On September 12, 1935, the museum acquired two large wooden medicine faces. The first (AE 3607/35.273.33) was by Harrison Ground, Tonawanda Reservation, and has brass eyes made by Cephas Hill, Tonawanda Reservation. The second (AE 3617/35.273.34) was made by Harrison Ground and Robert Tahamont, Tonawanda Reservation.

Between February 10 and October 23, 1936, the museum acquired four medicine faces made by Harrison Ground, Tonawanda Reservation. The first (AE 4029/35.273.36) is a large basswood face that measures 9 1/2” x 6 1/4”. The second (AE 4428/35.273.44) measures 11” x 6 1/4”. The third (AE 4430/36.380.30) measures 6 3/8” x 4”. The fourth (AE 4601/36.380.20) measures 6 3/8” x 4 1/8”.

On March 1, 1938, the museum acquired one large hemlock medicine face (AE 6804/38.376.2) made by Cephas Hill, Tonawanda Reservation.

On October 1, 1939, the museum acquired one large wooden medicine face (AE 7518/39.378.2) made by Cephas Hill, Tonawanda Reservation. The face is made of whitewood and measures 8 3/4” x 5 1/2”.

Between October 1 and December 1, 1938, the museum acquired two large wooden medicine faces made by Jesse Hill, Tonawanda Reservation. The first (AE 6697/38.377.11) measures 9 1/2” x 6”. The second (AE 6783/38.377.12) is made of whitewood and measures 10 1/4” x 6 3/8”.

Between February 1 and May 1, 1935, the museum acquired two medicine faces made by Everett Parker, Tonawanda Reservation. The first (AE 2739/37.307.51) measures 10” x 7”. The second (AE 3000/35.37.53) is a large wooden face.

Between February 10 and December 9, 1936, the museum acquired two medicine faces made by Everett Parker, Tonawanda Reservation. The first (AE 4429/35.307.55) is a large wooden face that measures 10” x 6 1/2”. The second (AE 5479/36.390.8) is a large wooden face made of whitewood that measures 9 3/4” x 6 1/2”.

Between March 29 and May 18, 1937, the museum acquired three wooden medicine faces made by Everett Parker, Tonawanda Reservation. The first (AE 5800/37.505.5) is a large basswood face that measures 10” x 7”. The second (AE 5913/37.505.1) and third (AE 5914/37.505.17) are large wooden faces made of willow.

Between April 1 and December 1, 1938, the museum acquired four medicine faces made by Everett Parker, Tonawanda Reservation. The first (AE 6568/38.383.5) is a large wooden face that measures 10” x 6 1/2”. The second (AE 6730/38.383.6) is a large whitewood face that measures 10 1/4” x 6 3/4”. The third (AE 6731/38.383.33) is a large basswood face. The fourth (AE 6782/38.383.30) is a large wooden face that measures 10” x 6”.

On February 1, 1939, the museum acquired one medicine face (AE 6843/38.383.29) made by Everett Parker, Tonawanda Reservation, that measures 9 3/4” x 5 5/8”.

Between March 1 and June 30, 1937, the museum acquired six medicine faces made by Franklin Reuben, Tonawanda Reservation. The first (AE 5699/37.508.55) and second (AE 5701/37.508.19) are large basswood faces. The third (AE 5802/37.508.23) is a large wooden face that measures 10 1/4” x 7”. The fourth (AE 5960/37.508.42) is a large wooden face made of willow that measures 10” x 6 1/2”. The fifth (AE 5961/37.508.52) is a large wooden face made of white pine that measures 6” x 9”. The sixth (AE 6074/37.508.25) is a wooden face that measures 6” x 4” that is accompanied by a small buckskin bag.

On December 1, 1938, the museum acquired one basswood medicine face (AE 6779/38.385.26) made by Franklin Reuben, Tonawanda Reservation, that measures 9 3/4” x 6”.

On October 1, 1939, the museum acquired four medicine faces made by Franklin Reuben, Tonawanda Reservation. The first (AE 7510/38.385.3) is a large face that measures 9” x 6”. The second (AE 7512/39.389.37) is a large wooden face that measures 9 1/4” x 6”. The third (AE 7517/39.389.39) is a large wooden face made of whitewood that measures 9 1/2” x 5 3/4”. The fourth (AE 7521/39.389.1) is a large wooden face.

Between January 1 and September 18, 1940, the museum acquired four medicine faces made by Franklin Reuben, Tonawanda Reservation. The first (AE 7699/39.389.7) is a large wooden face made of whitewood that measures 9 3/8” x 6”. The second (AE 7833/40.475.6) is a large wooden face made of whitewood that measures 9 1/4” x 6”. The third (AE 7897/40.475.7) is a large wooden face made of whitewood. The fourth (AE 8268/39.389.40) is a large wooden face made of pinewood.

On November 18, 1935, the museum acquired one medicine face (AE 4213/35.327.17) made by Kidd Smith, Tonawanda Reservation. It is a large wooden face that measures 9 1/2” x 6 1/4”.

Between March 1 and October 23, 1935, the museum acquired 13 medicine faces made by Elon Webster, Tonawanda Reservation. The first (AE 2685/35.338.11) is a large wooden face that measures 9 3/8” x 6”. The second (AE 2737/35.338.12) is a large wooden face that measures 9” x 6”. The third (AE 2738/35.338.13) is a large wooden face that measures 10 1/2” x 6 1/2”. The fourth (AE 3226/35.338.14) is a large wooden face that measures 9 1/2” x 5 1/2”. The fifth (AE 3440/35.338.15) is a large wooden face made of basswood that measures 10 1/2” x 6 1/4”. The sixth (AE 3443/35.338.16) is a large wooden face. The seventh (AE 3625/35.338.17) is a large cucumber wood face. The eighth (AE 3626/35.338.18) is a large wooden face that measures 10” x 6”. The ninth (AE 3628/35.338.19) is a large wooden face that measures 13 3/4” x 6 1/2”. The tenth (AE 3629/35.338.20) is a large wooden face. The eleventh (AE 4024/35.338.21) is a large wooden face that measures 11” x 7”. The twelfth (AE 4028/35.338.22) is a large wooden face that measures 10 3/4” x 6 3/4”. The thirteenth (AE 4030/35.338.23) is a large wooden face that measures 10” x 6 1/4” and is described as “made by a member of the False Face Company.”

Between April 13 and May 15, 1936, the museum acquired five medicine faces made by Elon Webster, Tonawanda Reservation. The first (AE 4567/36.409.19) is a large wooden face that measures 10 1/2” x 6 1/4”. The second (AE 4599/36.409.9) is a large wooden face that measures 10 1/2” x 6 1/4”. The third (AE 4633/36.409.6) is a large wooden face made of whitewood that measures 10 1/2” x 6 1/4”. The fourth (AE 4812/36.409.29) is a large wooden face made of cucumber wood that measures 10” x 6 1/4”. The fifth (AE 4813/36.409.13) is a large wooden face made of whitewood that measures 10 3/4” x 6 1/4”.

On March 31, 1937, the museum acquired one large wooden medicine face (AE 5700/37.522.8) made of willow by Elon Webster, Tonawanda Reservation.

On June 1, 1938, the museum acquired one large basswood medicine face (AE 6598/38.392.6) made by Elon Webster, Tonawanda Reservation.

Between March 1 and November 1, 1939, the museum acquired nine medicine faces made by Elon Webster, Tonawanda Reservation. The first (AE 6865/38.392.14) is a large basswood face that measures 10 1/4” x 6”. The second (AE 6866/38.392.12) is a large basswood face that measures 10” x 6 1/4”. The third (AE 6867/38.392.13) is a large basswood face that measures 10 5/8” x 6”. The fourth (AE 6868/38.392.10) and fifth (AE 6869/38.392.11) are large basswood faces. The sixth (AE 7372/39.374.2) is a large wooden face. The seventh (AE 7516/39.374.1) is a large basswood face. The eighth (AE 7519/39.374.8) is a large basswood face that measures 8 1/2” x 5”. The ninth (AE 7553/39.374.10) is a large wooden face that measures 10 1/4” x 5 3/4”.

Between January 1 and October 1, 1940, the museum acquired six medicine faces made by Elon Webster, Tonawanda Reservation. Three faces (AE 7513/39.374.5, AE 7701/39.374.9, and AE 7702/39.374.12) are large wooden faces made of whitewood. The fourth (AE 7700/39.374.13) is a large wooden face. The fifth (AE 7703/40.483.7) and sixth (AE 8090/39.374.7) are large basswood faces.

On June 1, 1941, the museum acquired two medicine faces from Elon Webster, Tonawanda Reservation. The first (AE 8348/40.466.9) is a large wooden face. The second (AE 8349/40.483.6) is a large basswood face.

The following 109 small medicine faces were also created under the auspices of the Works Progress Administration/Indian Arts Project:

Between January 1 and February 1, 1940, the museum acquired seven small medicine faces (AE 7707/40.467.5, AE 7840/40.467.6, AE 8176/40.467.11, AE 7838/40.467.15, AE 7837/40.467.16, AE 7841/40.467.18, and AE 7839/40.467.19) made of woven basswood bark by Harrison Ground, Tonawanda Reservation.

On November 1, 1935, the museum acquired five small deerhorn medicine faces (AE 4145a/35.314.47.1, AE 4145b/35.314.47.2, AE 4243a/35.314.50.1, AE 4243b/35.314.50.2, and AE 4244/35.314.51) made by Franklin Reuben, Tonawanda Reservation.

On April 1, 1936, the museum acquired four small medicine faces made by Ira Mitten, Tonawanda Reservation. One (AE 4679/36.389.59) is made of bone. Two (AE 4708/36.389.60 and AE 4709/36.389.61) are made of elkhorn. The fourth (AE 4710/36.389.62) is made of cow bone.

On February 1, 1940, the museum acquired one small elkhorn medicine face (AE 4413/36.389.37) made by Ira Mitten, Tonawanda Reservation.

On March 1, 1940, the museum acquired three small antler medicine faces (AE 4538/36.389.56, AE 4539/36.389.57, and AE 4540/36.389.58) made by Ira Mitten, Tonawanda Reservation.

On November 1, 1935, the museum acquired two small stone medicine faces (AE 4208/35.314.48 and AE 4236/35.314.49) made by Franklin Reuben, Tonawanda Reservation.

On June 1, 1936, the museum acquired two small stone medicine faces (AE 5004/35.314.52 and AE 5005/35.314.53) by Franklin Reuben, Tonawanda Reservation.

Between February 1 and April 19, 1936, the museum acquired three small wooden medicine faces (AE 2573/35.267.1, AE 2575/35.267.3, and AE 3011/35.267.4) made by Jesse Cornplanter, Tonawanda Reservation.

Between May 1 and August 1, 1935, the museum acquired three small faces made of by William Gordon, Tonawanda Reservation. The first (AE 3173/35.271.7) and second (AE 3444/35.271.15) are made of wood. The third (AE 5522/37.523.31) is made of basswood.

On October 23, 1935, the museum acquired six small wooden medicine faces (AE 4068 (1)/35.273.38.1, AE 4068 (2)/35.273.38.2, AE 4068 (3)/35.273.38.3, AE 4068 (4)/35.273.38.4, AE 4068 (5)/35.273.38.5, and AE 4068 (6)/35.273.38.6) made by Harrison Ground, Inez Blackchief, and Robert Tahamont, Tonawanda Reservation.

On October 24, 1935, the museum acquired 20 small wooden medicine faces (AE 4067 (1)/35.273.37.1, AE 4067 (2)/35.273.37.2, AE 4067 (3)/35.273.37.3, AE 4067 (4)/35.273.37.4, AE 4067 (5)/35.273.37.5, AE 4067 (6)/35.273.37.6, AE 4069 (1)/35.273.39.1, AE 4069 (2)/35.273.39.2, AE 4069 (3)/35.273.39.3, AE 4069 (4)/35.273.39.4, AE 4069 (5)/35.273.39.5, AE 4069 (6)/35.273.39.6, AE 4565a/35.273.45.1, AE 4565b/35.273.45.2, AE 4565c/35.273.45.3, AE 4565d/35.273.45.4, AE 4565e/35.273.45.5, AE 4565f/35.273.45.6, AE 4565g/35.273.45.7, and AE 4565h/35.273.45.8) made by Harrison Ground, Inez Blackchief, and Robert Tahamont, Tonawanda Reservation.

On October 24, 1935, the museum acquired six small cedar medicine faces (AE 4070a/35.273.40.1, AE 4070b/35.273.40.2, AE 4070c/35.273.40.3, AE 4070d/35.273.40.4, AE 4070e/35.273.40.5, and AE 4070f/35.273.40.6) made by Harrison Ground, Inez Blackchief, and Robert Tahamont, Tonawanda Reservation.

On November 1, 1935, the museum acquired nine small wooden medicine faces (AE 4205(1)/35.273.41.1, AE 4205 (3)/35.273.41.3, AE 4205 (5)/35.273.41.5, AE 4207 (1)/35.273.42.1, AE 4207 (2)/35.273.42.2, AE 4207 (3)/35.273.42.3, AE 4207 (4)/35.273.42.4, AE 4207 (5)/35.273.42.5, and AE 4207 (6)/35.273.42.6) made by Harrison Ground, Inez Blackchief, and Robert Tahamont, Tonawanda Reservation.

Between February 22 and March 1, 1935, the museum acquired four small wooden medicine faces (AE 2595/35.277.23, AE 2657/35.277.24, AE 2660/35.277.27, and AE 2661/35.277.28) made by Cephas Hill, Tonawanda Reservation.

On June 1, 1936, the museum acquired nine small maple wood medicine faces (AE 7373/36.399.7, AE 7374/36.399.8, AE 7375/36.399.9, AE 7376/36.399.10, AE 7377/36.399.11, AE 7378/36.399.12, AE 7379/36.399.13, AE 7380/36.399.14, and AE 7381/36.399.15) made by Ernest Smith, Tonawanda Reservation.

Between October 1 and December 1, 1939, the museum acquired three small maple wood medicine faces (AE 7536/39.392.3, AE 7537/39.392.1, and AE 7684/39.392.2) made by Ernest Smith, Tonawanda Reservation.

On January 1, 1940, the museum acquired one small waxed-lemonwood medicine face (AE 7708a/40.477.8.1) made by Ernest Smith, Tonawanda Reservation.

On January 1, 1940, the museum acquired four small wooden medicine faces (AE 7708b/40.477.8.2, AE 7708c/40.477.8.3, AE 7708d/40.477.8.4, and AE 7708e/40.477.8.5) made by Ernest Smith, Tonawanda Reservation.

On July 1, 1941, the museum acquired six small maple wood medicine faces (AE 8398/40.477.13, AE 8399/40.477.14, AE 8297/40.477.15, AE 8298/40.477.16, AE 8299/40.477.17, and AE 8300/40.477.18) made by Ernest Smith, Tonawanda Reservation.

On July 17, 1935, the museum acquired one small wooden medicine face (AE 3193/35.327.16) made by Kidd Smith, Tonawanda Reservation.

Between April 1 and November 18, 1935, the museum acquired five small wooden medicine faces (AE 2741/35.338.27, AE 3194/35.338.26, AE 3291/35.338.28, AE 4206a/35.338.24, and AE 4206b/35.338.25) made by Elon Webster, Tonawanda Reservation.

Between March 31 and April 12, 1937, the museum acquired three small medicine faces made by Franklin Reuben, Tonawanda Reservation. The first (AE 5817/37.508.53) is made of basswood. The second (AE 5818/37.508.17) is made of maple wood. The third (AE 5836/37.508.38) is made of applewood.

On April 1, 1936, the museum acquired two small wooden medicine faces (AE 4758/36.406.5 and AE 4759/36.406.6) from an unknown maker on the Tonawanda Reservation.

The following 13 cornhusk medicine faces were also made under the auspices of the Works Progress Administration/Indian Arts Project:

Between July 18 and September 30, 1935, the museum acquired seven braided cornhusk medicine faces made by William Gordon, Tonawanda Reservation. The first face (AE 3228/35.271.9) measures 13” x 12”. The second face (AE 3229/35.271.10) measures 13” x 12”. The third (AE 3371/35.271.12) and sixth faces (AE 3632/35.271.19) are referred to as large. The fourth face (AE 3619/35.271.16) measures 14” x 9”. The fifth face (AE 3630/35.271.18) measures 13” x 10 1/2”. The seventh face (AE 3845/35.271.20) measures 16” x 12”.

Between May 26 and June 1, 1937, the museum acquired two braided cornhusk medicine faces made by William Gordon, Tonawanda Reservation. The first (AE 5938/37.523.32) measures 13” x 10”. The second (AE 7401/39.376.8) measures 8” x 7”.

On September 12, 1935, the museum acquired one woven cornhusk medicine face (AE 3631/35.332.50) made by Robert Tahamont, Tonawanda Reservation, that measures 13” x 12 1/2”.

On September 12, 1935, the museum acquired one braided cornhusk medicine face (AE 3618/35.307.54) made by Everett Parker, Tonawanda Reservation, that measures 13 1/2” x 12”.

On August 1, 1937, the museum acquired two braided cornhusk medicine faces made by Julia Black, Tonawanda Reservation. The first face (AE 6174/37.493.5) measures 11” x 11”. The second face (AE 6175/37.493.6) measures 11” x 12”.

Tonawanda Seneca Nation traditional religious leaders have identified these medicine faces as being needed for the practice of traditional Native American religions by present-day adherents. In the course of consultations with NAGPRA representatives of the Tonawanda Seneca Nation, it was shown that individuals who created a face did not have the authority to sell it directly to the Rochester Museum & Science Center. Museum documentation, supported by oral evidence presented during consultation by Tonawanda Seneca Nation NAGPRA representatives, indicates that these medicine faces are culturally affiliated with the Tonawanda Seneca Nation.

Officials of the Rochester Museum & Science Center have determined, that pursuant to 25 U.S.C. 3001(3)(C), the 306 cultural items described above are specific ceremonial objects needed by traditional Native American religious leaders for the practice of traditional Native American religions by their present-day adherents. Officials of the Rochester Museum & Science Center have also determined that, pursuant to 25 U.S.C. 3001(3)(D), the 306 cultural items described above are objects having an ongoing historical, traditional, or cultural importance central to the Native American group or culture itself, rather than property owned by an individual. Lastly, officials of the Rochester Museum & Science Center have determined, that pursuant to 25 U.S.C. 3001(2), there is a relationship of shared group identity that can be reasonably traced between the sacred objects/objects of cultural patrimony and the Tonawanda Band of Seneca Indians of New York.

Representatives of any other Indian Nation or tribe that believes itself to be culturally affiliated with the sacred objects/objects of cultural patrimony should contact Adele DeRosa, NAGPRA Coordinator/Collections Manager, Rochester Museum & Science Center, 657 East Ave., Rochester, NY 14607, telephone (585) 271-4552, ext 302, before July 28, 2010. Repatriation of the sacred objects/objects of cultural patrimony to the Tonawanda Band of Seneca Indians of New York may proceed after that date if no additional claimants come forward.

The Rochester Museum & Science Center is responsible for notifying the Tonawanda Band of Seneca Indians of New York that this notice has been published.

Dated: June 22, 2010
Sherry Hutt,
Manager, National NAGPRA Program.

[FR Doc. 2010-15602 Filed 6-25-10; 8:45 am]

BILLING CODE 4312-50-S